DEPARTMENT OF THE INTERIOR

Bureau of Indian Affairs

Request for Nominations of Members To Serve on the Bureau of Indian Education Advisory Board for Exceptional Children

AGENCY: Bureau of Indian Education, Interior.

ACTION: Notice of Request for Nominations.

SUMMARY: Pursuant to the Federal Advisory Committee Act, 5 U.S.C., Appendix 2, and the Individuals with Disabilities Education Improvement Act (IDEA) of 2004, (20 U.S.C. 1400 et seq.) the Bureau of Indian Education requests nominations of individuals to serve on the Advisory Board for Exceptional Children (Advisory Board). There are seven positions available. The Bureau of Indian Education (BIE) will consider nominations received in response to this Request for Nominations, as well as other sources. The SUPPLEMENTARY INFORMATION section for this notice provides Advisory Board and membership criteria.

DATES: Nominations must be received on or before November 14, 2011.

ADDRESSES: Please submit nominations to Sue Bement, Designated Federal Officer (DFO), Bureau of Indian Education, Albuquerque Service Center, Division of Performance and Accountability, P.O. Box 1088, Albuquerque, New Mexico 87103-1088.

FOR FURTHER INFORMATION CONTACT: Sue Bement, Education Specialist, telephone (505) 563-5274.

SUPPLEMENTARY INFORMATION: The Advisory Board was established in accordance with the Federal Advisory Committee Act, Public Law 92-463. The following provides information about the Advisory Board, the membership and the nomination process.

Objective and Duties

(a) Members of the Advisory Board will provide guidance, advice and recommendations with respect to special education and related services for children with disabilities in Bureau-funded schools in accordance with the requirements of IDEA of 2004.

(b) The Advisory Board will:

(1) Provide advice and recommendations for the coordination of services within the BIE and with other local, state and Federal agencies;

(2) Provide advice and recommendations on a broad range of policy issues dealing with the provision of educational services to American Indian children with disabilities;

(3) Serve as advocates for American Indian students with special education needs by providing advice and recommendations regarding best practices, effective program coordination strategies, and recommendations for improved educational programming;

(4) Provide advice and recommendations for the preparation of information required to be submitted to the Secretary of Education under 20 U.S.C. 1411(h)(2)(D);

(5) Provide advice and recommend policies concerning effective inter/intra-agency collaboration, including modifications to regulations, and the elimination of barriers to inter/intra-agency programs and activities; and

(6) Report and direct all correspondence to the Assistant Secretary—Indian Affairs through the Director, BIE with a courtesy copy to the DFO.

Membership

(a) As required by 20 U.S.C. 1411(h)(6), the Advisory Board shall be composed of 15 individuals involved in or concerned with the education and provision of services to Indian infants, toddlers, children, and youth with disabilities. The Advisory Board composition will reflect a broad range of viewpoints and will include at least one (1) member representing each of the following interests: Indians with disabilities; teachers of children with disabilities; Indian parents or guardians of children with disabilities; service providers; state education officials; local education officials; state interagency coordinating Councils (for states having Indian reservations); Tribal representatives or Tribal organization representatives; and other members representing the various divisions and entities of the BIE.

(b) The Assistant Secretary—Indian Affairs may provide the Secretary of the Interior recommendations for the chairperson; however, the chairperson and other board members will be appointed by the Secretary of the Interior. Advisory Board members shall serve staggered terms of 2 or 3 years from the date of their appointment.

Miscellaneous

(a) Members of the Advisory Board will not receive compensation, but will be reimbursed for travel, including subsistence, and other necessary expenses incurred in the performance of their duties in the same manner as persons employed intermittently in Government Service under 5 U.S.C. 5703.

(b) A member may not participate in matters that will directly affect, or appear to affect, the financial interests of the member or the member's spouse or minor children, unless authorized by the appropriate ethics official. Compensation from employment does not constitute a financial interest of the member so long as the matter before the committee will not have a special or distinct effect on the member or the member's employer, other than as part of a class. The provisions of this paragraph do not affect any other statutory or regulatory ethical obligations to which a member may be subject.

(c) The Advisory Board meets at least twice a year, budget permitting, but additional meetings may be held as deemed necessary by the Assistant Secretary—Indian Affairs or DFO.

(d) All Advisory Board meetings are open to the public in accordance with the Federal Advisory Committee Act regulations.

Nomination Information

(a) Nominations are requested from individuals, organizations, and Federally recognized Tribes, as well as from state directors of special education (within the 23 states in which Bureau-funded schools are located) concerned with the education of Indian children with disabilities as described above.

(b) Nominees should have expertise and knowledge of the issues and/or needs of American Indian children with disabilities. Such knowledge and expertise are needed to provide advice and recommendations to the BIE regarding the needs of American Indian children with disabilities.

(c) A summary of the candidate's qualifications (résumé or curriculum vitae) must be submitted with the nomination application below. Nominees must have the ability to attend Advisory Board meetings, carry out Advisory Board assignments, participate in teleconferences, and work in groups.

(d) The Department of the Interior is committed to equal opportunity in the workplace and seeks diverse Advisory Board membership, which is bound by the Indian Preference Act of 1990 (25 U.S.C. 472).

Basis for Nominations

If you wish to nominate someone for appointment to the Advisory Board, please do not make the nomination until the person has been contacted and has agreed to have his/her name submitted to BIE for this purpose.

NOMINATION APPLICATION

(Please fill out this form completely and include a copy of your résumé or curriculum vitae.)

Note: Additional pages may be added for further explanation of any item. Reference the corresponding item number for which the additional explanation is made.

1. Full Name:
2. Mailing Address: | 3. City: | 4. State: | 5. Zip Code:
6. Primary Contact Phone Number: | 7. Secondary Contact Phone Number:
( ) | ( )
8. Place of Employment:
9. Work Address: | 10. City: | 11. State: | 12. Zip Code:
13. Employment Title:
14. Work Telefax Number: | 15. E-mail address:
( ) |
Note to Review Committee: Prior to submitting this nomination application, the above named individual must be contacted regarding appointment to the Advisory Board. Do not make a nomination until this person has been contacted and has agreed to have his/her name submitted to the Bureau of Indian Education.

16. If appointed, this person will represent one of the following categories (check all applicable):

__ Indian persons with disabilities

__ Teachers of children with disabilities

__ Indian parents or guardians of children with disabilities

__ Service providers

__ State Education Officials

__ Local Education Officials

__ State Interagency Coordinating Councils (for states having Indian reservations)

__ Tribal representatives or tribal organization representatives

__ Bureau employees concerned with the education of children with disabilities

17. What role would you recommend this nominee serve?

__ Advisory Board Chairperson

__ Advisory Board Member

18. Nominee's experience with BIE funded schools: (check all applicable)

__ BIE Day School

__ BIE Boarding School

__ Off-Reservation Boarding School

__ Tribal Contract School

__ Tribal Grant School

__ Cooperative School

19. List nominee's experiences related to the education of Indian infants, toddlers, children and youth with disabilities, in the past 10 years. Include time frames of experience or employment, position titles, location of employment or organization involvement and a brief description of duties. (Attach additional pages if necessary.)

20. Provide a list of current memberships or current affiliations with professional education organizations, particularly special education organizations. Identify organization offices held if applicable. (Attach additional pages if necessary.)

21. Identify special interests, activities, awards (professional, educational and community) related to the education of disabled Indian children (infants, toddlers, children and/or youth). (Attach additional pages if necessary.)

22. Nominee recommended by:

Name of Indian tribe, organization, individual (include position title) making nomination:
Address of Indian tribe, organization, individual making nomination:
City: | State: | Zip Code:
Signature of Authorizing Official:
Date of Signature: | Phone (Area code + Number): | Telefax (Area code + Number):

Paperwork Reduction Act

This information collection has been assigned OMB Control No. 1076-0179, with an expiration of September 30, 2014. This information is being collected to select individuals to serve on a Federal advisory committee, the Advisory Board for Exceptional Children. Response to this request is required to obtain a benefit. You are not required to respond to this collection of information unless it displays a currently valid OMB control number. This information will be used to determine the eligibility and the ranking of the nominee. Public reporting burden for this form is estimated to average 1 hour per response, including the time for reviewing instructions, gathering and maintaining data, and completing and reviewing the form. Direct comments regarding the burden estimate or any other aspect of this form to Information Collection Clearance Officer—Indian Affairs, U.S. Department of the Interior, 1849 C Street, NW., MS-4141, Washington, DC 20240.

Dated: October 6, 2011.
Paul Tsosie,
Chief of Staff, Assistant Secretary—Indian Affairs.

[FR Doc. 2011-26448 Filed 10-12-11; 8:45 am]

BILLING CODE 4310-6W-P